SMALL BUSINESS ADMINISTRATION

Region 1—Maine District Advisory Council; Public Meeting

The U.S. Small Business Administration Augusta, Maine District Advisory Council, will hold a public meeting at 10:00 a.m. February 5th, 2002 at 68 Sewall Street, Room 510, Augusta, Maine to discuss such matters as may be presented by members, staff of the U.S. Small Business Administration, or others present.

Anyone wishing to make an oral presentation to the Board must contact Mary MaAleney, in writing by letter or fax no later than January 25th, 2002, in order to be put on the agenda. Please direct questions to Mary McAleney, District Director, U.S. Small Business Administration, 68 Sewall Street, Room 512, Augusta, Maine 04330, (201) 622-8386 phone, (207) 622-8277 fax. For further information, write or call Mary McAleney, District Director, U.S. Small Business Administration, 68 Sewall Street, Room 512, Augusta, Maine 04330, (207) 622-8386 phone, (207)622-8277 fax.

Steve Tupper,
Committee Management Officer.

[FR Doc. 01-31952 Filed 12-27-01; 8:45 am]

BILLING CODE 8025-01-P